DEPARTMENT OF AGRICULTURE

Forest Service

Humboldt-Toiyabe National Forests; Ely Ranger District; Ely Westside Rangeland Project

AGENCY: Forest Service, USDA.

ACTION: Notice of Intent to Prepare a Supplemental Environmental Impact Statement.

SUMMARY: The Ely Ranger District of the Humboldt-Toiyabe National Forest will prepare a Supplemental Environmental Impact Statement (SETS) on a proposal to authorize continued livestock grazing on National Forest System (NFS) lands within the boundaries administered by the Ely Ranger District. The Project Area is located in White Pine, Lincoln, and Nye counties, Nevada.

A Final Environmental Impact Statement and Record of Decision were distributed in September 2011. While considering an appeal on the Record of Decision, it became apparent that clarification of some elements in the selected alternative, Alternative 1 (Proposed Action), was warranted. On January 6, 2012, the Record of Decision was withdrawn. This SETS is being prepared to clarify several elements of Alternative 1 (Proposed Action) and to provide additional information on the development of stocking rates on the allotments in the project area.

DATES: The Draft SEIS is expected to be released for public review and comment in August of 2013 and the Final SEIS is expected to be released in November of 2013.

ADDRESSES: Send written comments to: Vernon Keller, Environmental Coordinator, Humboldt-Toiyabe National Forest, 1200 Franklin Way, Sparks, NV 89431.

FOR FURTHER INFORMATION CONTACT: For further information, mail correspondence to or contact Vernon Keller, NEPA Coordinator, Humboldt-Toiyabe National Forest, 1200 Franklin Way, Sparks, NV 89431. The telephone number is: 775-355-5356. Email address is: vkeller@fs.fed.us.

SUPPLEMENTARY INFORMATION:

Background

Initiation of the Ely Westside Rangeland Project began in 2006 with the original Notice of Intent published in the Federal Register on November 27, 2006 (Vol. 71, Number 227). The Draft EIS was released in June of 2011 for a 45 day comment period. The Final EIS and Record of Decision were released simultaneously on September 28, 2011. These documents, which include descriptions of the purpose and need, the proposed action, and two alternatives to the proposed action, can be found at http://www.fs.usda.gov/goto/htnf/elywestrange.

One appeal was filed against the 2011 Record of Decision. On January 6, 2012, the Forest Supervisor withdrew the Record of Decision, finding that additional clarification in the Final Environmental Impact Statement was desirable.

Purpose and Need for Action

As stated in Final EIS released in 2011, this action is being considered at this time because current and prospective permittees have expressed a desire to graze or continue grazing on allotments in the project area and the Rescissions Act of 1995 directs the Forest Service to establish and adhere to a schedule to complete environmental analyses and decisions on all allotments. The purpose of the proposed federal action is to authorize livestock grazing under terms and conditions designed to sustain and improve the health of the land and protect essential ecosystem functions and values. The need for the proposed federal action is to allow these allotments to continue to contribute to the overall desired Animal Use Month (AUM) production for the Humboldt National Forest while improving the gap between existing and desired rangeland conditions.

Proposed Action

As outlined in the Final EIS released in 2011, the Proposed Action would authorize domestic livestock grazing on the nine of the twelve allotments in the Project Area. Under this alternative, proper use criteria (forage utilization and streambank alteration) would be based on the current ecological conditions (functioning, functioning-at-risk, or non-functioning) within each allotment.

The ecological condition of the allotments would continue to be evaluated through a long-term monitoring process. If long-term monitoring indicates the ecological condition of the allotment has changed, then the set of proper use criteria associated with that ecological condition would be applied to the allotment. The Proposed Action includes a non-significant Forest Plan amendment to open the Troy Mountain Allotment to livestock grazing.

Alternatives to the Proposed Action

In addition to the Proposed Action, two additional alternatives have been identified for analysis in the SETS:

1. Current Management Alternative: Continue current grazing management.

2. No Grazing Alternative: Eliminate grazing on all the allotments in the project area immediately.

Responsible Official

The responsible official is: William Dunkelberger, Forest Supervisor, Humboldt-Toiyabe National Forest, 1200 Franklin Way, Sparks, NV 89431.

Nature of Decision To Be Made

The Responsible Official will decide whether or not to incorporate the supplemental information and analysis into the FEIS. The Responsible Official will also decide whether to authorize grazing (and if so, under what terms and conditions) on the allotments in the Ely Westside Rangeland Project area.

The objection process described in 36 CFR part 218, subparts A and B will be used as this project goes forward, instead of the appeal process described in 36 CFR part 215. After the comments on the Draft Supplement are considered, a Final Supplemental EIS and a Draft Record of Decision will be prepared and circulated. Those who commented during any designated opportunity for public comment on this project will have eligibility to file an objection on the draft Record of Decision.

Scoping Process

Scoping was conducted for the original EIS. The scoping period for this EIS was formally initiated on November 27, 2006 when the original notice of intent for this project was published in the Federal Register (Volume 71, Number 227). Scoping is not required for supplements to environmental impact statements (40 CFR 1502.9(c)(4)). The supplement will be subject to notice and comment. A draft supplemental EIS will be published and made available for review and comment for 45 days, following direction at 36 CFR 218.25. Comments on the draft supplemental EIS will be limited to the supplemental information to the 2011 EIS.

Comments received in response to this solicitation, including names and addresses of those who comment, will be part of the public record for this proposed action. Comments submitted anonymously will be accepted and considered; however, anonymous comments will not provide the Agency with the ability to provide the respondent with subsequent environmental documents.

(Authority: 40 CFR 1501.7 and 1508.22; Forest Service Handbook 1909.15, Section 21)

Dated: August 6, 2013.
William A. Dunkelberger,
Forest Supervisor.

[FR Doc. 2013-19519 Filed 8-14-13; 8:45 am]

BILLING CODE 3410-11-M